DEPARTMENT OF COMMERCE

International Trade Administration

[A-583-844]

Narrow Woven Ribbons With Woven Selvedge From Taiwan; Final Results of Antidumping Duty Administrative Review and Final Determination of No Shipments; 2014-2015

AGENCY: Enforcement and Compliance, International Trade Administration, Department of Commerce.

SUMMARY: On October 14, 2016, the Department of Commerce (the Department) published the preliminary results of the 2014-2015 administrative review of the antidumping duty (AD) order on narrow woven ribbons with woven selvedge (NWR) from Taiwan. The review covers four producers/exporters of the subject merchandise, of which the Department selected two companies for individual examination, Roung Shu Industry Corporation (Roung Shu) and A-Madeus Textile Ltd. (A-Madeus). The period of review (POR) is September 1, 2014, through August 31, 2015. We gave interested parties an opportunity to comment on the preliminary results and, based upon our analysis of the comments, our final results remain unchanged from the preliminary results. The final dumping margins are listed below in the section entitled “Final Results of the Review.”

DATES: Effective April 19, 2017.

FOR FURTHER INFORMATION CONTACT: David Crespo, AD/CVD Operations, Office II, Enforcement and Compliance, International Trade Administration, U.S. Department of Commerce, 1401 Constitution Avenue NW., Washington, DC 20230; telephone: (202) 482-3693.

SUPPLEMENTARY INFORMATION:

Background

On October 14, 2016, the Department published the Preliminary Results in the Federal Register.¹ A summary of the events that occurred since the Department published the Preliminary Results, as well as a full discussion of the issues raised for these final results, may be found in the Issues and Decision Memorandum, which is hereby adopted by this notice.² The Department conducted this administrative review in accordance with section 751 of the Tariff Act of 1930, as amended (the Act).

¹ See Narrow Woven Ribbons with Woven Selvedge from Taiwan; Preliminary Results of Antidumping Duty Administrative Review and Preliminary Determination of No Shipments; 2014-2015, 81 FR 71057 (October 14, 2016) (Preliminary Results), and accompanying Preliminary Decision Memorandum.

² See Memorandum, “Issues and Decision Memorandum for the Final Results of the Antidumping Duty Administrative Review on Narrow Woven Ribbons with Woven Selvedge from Taiwan,” dated concurrently with, and hereby adopted by, this notice (Issues and Decision Memorandum).

Scope of the Order

The merchandise subject to this order ³ is narrow woven ribbons with woven selvedge. The merchandise subject to this order is classifiable under the harmonized tariff schedule of the United States (HTSUS) statistical categories 5806.32.1020; 5806.32.1030; 5806.32.1050 and 5806.32.1060. Subject merchandise also may enter under subheadings 5806.31.00; 5806.32.20; 5806.39.20; 5806.39.30; 5808.90.00; 5810.91.00; 5810.99.90; 5903.90.10; 5903.90.25; 5907.00.60; and 5907.00.80 and under statistical categories 5806.32.1080; 5810.92.9080; 5903.90.3090; and 6307.90.9889. The HTSUS statistical categories and subheadings are provided for convenience and customs purposes; however, the written description of the merchandise covered by this order is dispositive.⁴

³ See Narrow Woven Ribbons With Woven Selvedge from Taiwan and the People's Republic of China: Amended Antidumping Duty Orders, 75 FR 56982 (Sept. 17, 2010) (Orders).

⁴ For a complete description of the scope of the order, see Issues and Decision Memorandum.

Determination of No Shipments

In the Preliminary Results, we preliminarily determined that Xiamen Yi He and Fujian Rongshu had no reviewable transactions during the POR. We received no comments from interested parties with respect to these preliminary results and we continue to determine that these companies had no reviewable transactions during the POR.⁵

⁵ For a full explanation of the Department's analysis, see Preliminary Results, 81 FR at 71058, and accompanying Prelminary Determination Memorandum, at 5-6.

Analysis of Comments Received

The sole issue raised in the case brief is addressed in the Issues and Decision Memorandum. A list of the topics discussed and the issue which parties raised and to which we respond in the Issues and Decision Memorandum is attached to this notice as Appendix I. The Issues and Decision Memorandum is a public document and is on file electronically via Enforcement and Compliance's Antidumping and Countervailing Duty Centralized Electronic Service System (ACCESS). ACCESS is available to registered users at http://access.trade.gov and in the Central Records Unit, room B8024 of the main Department of Commerce building. In addition, a complete version of the Issues and Decision Memorandum can be accessed directly at http://enforcement.trade.gov/frn/index.html. The signed Issues and Decision Memorandum and the electronic version of the Issues and Decision Memorandum are identical in content.

Final Results of the Review

We are assigning the following weighted-average dumping margins to the firms listed below:

Producer/exporter | Weighted- average dumping margins (percent)
Roung Shu Industry Corporation | 0.00
A-Madeus Textile Ltd | 137.20

Assessment Rates

Pursuant to section 751(a)(2)(C) of the Act, and 19 CFR 351.212(b)(1), the Department has determined, and U.S. Customs and Border Protection (CBP) shall assess, antidumping duties on all appropriate entries of subject merchandise and deposits of estimated duties, where applicable, in accordance with the final results of this review. The Department intends to issue appropriate assessment instructions directly to CBP 15 days after publication of the final results of this administrative review.

Pursuant to the Final Modification for Reviews,⁶ because Roung Shu's weighted-average dumping margin is zero, we will instruct CBP to liquidate the appropriate entries without regard to antidumping duties,⁷ pursuant to 19 CFR 351.106(c)(2). For entries of subject merchandise during the POR produced by Roung Shu for which it did not know that the merchandise was destined for the United States, we will instruct CBP to liquidate un-reviewed entries at the all-others rate if there is no rate for the intermediate company(ies) involved in the transaction.

⁶ See Antidumping Proceedings: Calculation of the Weighted-Average Dumping Margin and Assessment Rate in Certain Antidumping Duty Proceedings; Final Modification, 77 FR 8101 (February 14, 2012) (Final Modification for Reviews).

⁷ Id., 77 FR at 8102.

For A-Madeus, we will base the assessment rate, which was assigned as an adverse facts available rate,⁸ for the corresponding entries on the margin listed above. Additionally, because the Department determined that Xiamen Yi He and Fujian Rongshu had no shipments of subject merchandise during the POR, any suspended entries that entered under their name will be liquidated at the all-others rate effective during the period of review.⁹

⁸ For a full discussion of the Department's determination to apply adverse facts available pursuant to section 776(a) and (b) of the Act, see Issues and Decision Memorandum, at Comment 1. See also Preliminary Results, 81 FR at 71058, and accompanying Prelminary Determination Memorandum, at 14-18.

⁹ For a full discussion of this clarification, see Antidumping and Countervailing Duty Proceedings: Assessment of Antidumping Duties, 68 FR 23954 (May 6, 2003).

Cash Deposit Requirements

The following deposit requirements will be effective upon publication of the notice of final results of administrative review for all shipments of the subject merchandise entered, or withdrawn from warehouse, for consumption on or after the date of publication, as provided by section 751(a)(2)(C) of the Act: (1) The cash deposit rates for Roung Shu and A-Madeus will be equal to the dumping margins established in the final results of this administrative review (except, if the rate is zero or de minimis, a zero cash deposit rate will be required for that company); (2) for merchandise exported by manufacturers or exporters not covered in this administrative review but covered in a prior segment of the proceeding, the cash deposit rate will continue to be the company-specific rate published for the most recently-completed segment; (3) if the exporter is not a firm covered in this review, a prior review, or the original less-than-fair-value (LTFV) investigation, but the manufacturer is, the cash deposit rate will be the rate established for the most recently-completed segment of this proceeding for the manufacturer of the merchandise; and (4) the cash deposit rate for all other manufacturers or exporters will continue to be 4.37 percent, the all-others rate determined in the LTFV investigation.¹⁰ These cash deposit requirements, when imposed, shall remain in effect until further notice.

¹⁰ See Orders, 75 FR at 56985.

Notification to Importers

This notice also serves as a final reminder to importers of their responsibility under 19 CFR 351.402(f) to file a certificate regarding the reimbursement of antidumping duties prior to liquidation of the relevant entries during this review period. Failure to comply with this requirement could result in the Secretary's presumption that reimbursement of antidumping duties occurred and the subsequent assessment of double antidumping duties.

Notification Regarding Administrative Protective Order

This notice serves as the only reminder to parties subject to administrative protective order (APO) of their responsibility concerning the disposition of proprietary information disclosed under APO in accordance with 19 CFR 351.305(a)(3). Timely written notification of return/destruction of APO materials or conversion to judicial protective order is hereby requested. Failure to comply with the regulations and the terms of an APO is a sanctionable violation.

This notice is published in accordance with section 751(a)(1) and 777(i)(1) of the Act.

Dated: April 12, 2017.
Ronald K. Lorentzen,
Acting Assistant Secretary for Enforcement and Compliance.

Appendix I—List of Topics Discussed in the Issues and Decision Memorandum

I. Summary

II. Background

III. Margin Calculation

IV. Scope of the Order

V. Discussion of the Issues

1. Rate Assigned to A-Madeus

VI. Recommendation

[FR Doc. 2017-07926 Filed 4-18-17; 8:45 am]

BILLING CODE 3510-DS-P